DEPARTMENT OF COMMERCE

National Oceanic and Atmospheric Administration

50 CFR Part 660

[Docket No. 140107014-4014-01]

RIN 0648-XD425

Fisheries Off West Coast States; Modifications of the West Coast Commercial and Tribal Salmon Fisheries; Inseason Actions #10 through #23

AGENCY: National Marine Fisheries Service (NMFS), National Oceanic and Atmospheric Administration (NOAA), Commerce.

ACTION: Modification of fishing seasons; request for comments.

SUMMARY: NOAA Fisheries announces 14 inseason actions in the ocean salmon fisheries. These inseason actions modified the commercial salmon fisheries in the area from the U.S./Canada border to U.S./Mexico border and the treaty Indian fishery north of Cape Falcon, Oregon.

DATES: The effective dates for the inseason actions are set out in this document under the heading Inseason Actions. Comments will be accepted through November 12, 2014.

ADDRESSES: You may submit comments, identified by NOAA-NMFS-2014-0005, by any one of the following methods:

• Electronic Submissions: Submit all electronic public comments via the Federal eRulemaking Portal. Go to www.regulations.gov/#!docketDetail;D=NOAA-NMFS-2014-0005, click the “Comment Now!” icon, complete the required fields, and enter or attach your comments.

• Mail: William W. Stelle, Jr., Regional Administrator, West Coast Region, NMFS, 7600 Sand Point Way NE., Seattle, WA, 98115-6349.

• Fax: 206-526-6736, Attn: Peggy Mundy.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Peggy Mundy at 206-526-4323.

SUPPLEMENTARY INFORMATION:

Background

In the 2014 annual management measures for ocean salmon fisheries (79 FR 24580, May 1, 2014), NMFS announced the commercial and recreational fisheries in the area from the U.S./Canada border to the U.S./Mexico border, beginning May 1, 2014, and 2015 salmon seasons opening earlier than May 1, 2015. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions). The state management agencies that participate in these consultations are: California Department of Fish and Wildlife (CDFW), Oregon Department of Fish and Wildlife (ODFW), and Washington Department of Fish and Wildlife (WDFW).

Management of the salmon fisheries is generally divided into two geographic areas: North of Cape Falcon (U.S./Canada border to Cape Falcon, Oregon) and south of Cape Falcon (Cape Falcon, Oregon to the U.S./Mexico border). The inseason actions reported in this document affect fisheries north and south of Cape Falcon. Within the south of Cape Falcon area, the Klamath Management Zone (KMZ) extends from Humbug Mountain, Oregon to Humboldt South Jetty, California and is divided at the Oregon/California border into the Oregon KMZ to the north and California KMZ to the south; five inseason actions in this notice specifically affect fisheries in the Oregon KMZ. All times mentioned refer to Pacific daylight time.

Inseason Actions

Inseason Action #10

Inseason action #10 modified the landing and possession limit for Chinook salmon in the commercial salmon fishery from U.S./Canada border to Cape Falcon, Oregon; this superseded inseason action #8 (79 FR 34269, June 16, 2014). Effective June 6, 2014, the landing and possession limit north of Cape Falcon was adjusted to 30 Chinook salmon north of Queets River or 40 Chinook salmon south of Queets River, per vessel, per open period.

The Regional Administrator (RA) consulted with representatives of the Council, WDFW, and ODFW on June 5, 2014. The information considered during this consultation related to catch-to-date and fishery effort in the commercial salmon fishery north of Cape Falcon. Inseason action #8, which took effect on May 30, 2014, adjusted the landing and possession limit to 40 Chinook salmon north of Queets River or 50 Chinook salmon south of Queets River, per vessel, per open period. During this consultation, the states recommended further restricting the landing and possession limit to 30 Chinook salmon north of Queets River or 40 Chinook salmon south of Queets River, per vessel, per open period to avoid exceeding the May-June quota set preseason. The RA concurred with the state's recommendation. Inseason action #10 took effect at 12:01 a.m. on June 6, 2014 and remained in effect until 11:59 p.m., June 12, 2014, when it was superseded by inseason action #11. Inseason action to modify quotas and/or fishing seasons is authorized by 50 CFR 660.409(b)(1)(i).

Inseason Action #11

Inseason action #11 modified the landing and possession limit for Chinook salmon in the commercial salmon fishery from U.S./Canada border to Cape Falcon, Oregon; this superseded inseason action #10. Effective June 13, 2014, the landing and possession limit north of Cape Falcon was adjusted to 20 Chinook salmon, per vessel, per open period.

The RA consulted with representatives of the Council, WDFW, and ODFW on June 12, 2014. The information considered during this consultation related to catch-to-date and fishery effort in the commercial salmon fishery north of Cape Falcon. Inseason action #10, which took effect on June 6, 2014, adjusted the landing and possession limit to 30 Chinook salmon north of Queets River or 40 Chinook salmon south of Queets River, per vessel, per open period. During this consultation, the states recommended further restricting the north of Cape Falcon landing and possession limit to 20 Chinook salmon, per vessel, per open period to avoid exceeding the May-June quota set preseason. The RA concurred with the state's recommendation. Inseason action #11 took effect at 12:01 a.m. on June 13, 2014 and remained in effect until 11:59 p.m., June 30, 2014, the end of the May-June season. Inseason action to modify quotas and/or fishing seasons is authorized by 50 CFR 660.409(b)(1)(i).

Inseason Action #12

Inseason action #12 closed the June commercial salmon fishery in the Oregon KMZ at 11:59 p.m., June 18, 2014.

The RA consulted with representatives of the Council, CDFW, and ODFW on June 18, 2014. The information considered during this consultation related to catch-to-date and fishery effort in the commercial salmon fishery south of Cape Falcon. The states recommended that the June fishery, close on June 18, 2014 to avoid exceeding the available quota for June. The RA concurred with the states' recommendation. Inseason action #12 took effect on June 18, 2014, and remained in effect through June 30, 2014, the end of the June season. Inseason action to modify quotas and/or fishing seasons is authorized by 50 CFR 660.409(b)(1)(i).

Inseason Action #13

Inseason action #13 modified the landing requirement for the final opening in the May-June season in the commercial salmon fishery north of Cape Falcon. Catch must be landed by 11:59 p.m., June 30, 2014, in order to not count against the landing limit, and quota, for the first week of the summer season, which started 12:01 a.m. July 1, 2014.

The RA consulted with representatives of the Council, WDFW, ODFW, and CDFW on June 26, 2014. The information considered during this consultation related to catch-to-date and fishery effort in the spring (May-June) season, and landing and possession limits in the spring and summer seasons in the commercial salmon fishery north of Cape Falcon. During the consultation, the states recommended that, contrary to earlier projections, sufficient quota remained to allow the fishery to remain open until the scheduled end of the spring season on June 30. However, with no break scheduled between the end of the spring season on June 30 and the beginning of the summer season on July 1, and different landing limits and quotas applying to the two seasons, a modification of the landing requirements was necessary. The landing requirements in the management measures set preseason allow landing within 24 hours of closure of the fishery. The states recommended that catch from the spring fishery would have to be landed by 11:59 p.m., June 30, 2014, to apply against the existing landing limit (set under inseason action #11) and count against the spring quota. Salmon landed after that time would be applied to the landing limit, and quota, for the first opening of the summer season. The purpose of this action was to allow the states to account for catch, enforce landing and possession limits, and manage quotas. The RA concurred with the states' recommendation. Inseason action #13 took effect June 30, 2014, and remained in effect until July 1, 2014. Inseason action to modify quotas and/or fishing seasons is authorized by 50 CFR 660.409(b)(1)(i).

Inseason Action #14

Inseason action #14 adjusted the quota for July in the commercial salmon fishery in the Oregon KMZ to account for unutilized quota from June, which was rolled over to July on an impact-neutral basis. The adjusted July quota was set at 574 Chinook salmon.

The RA consulted with representatives of the Council, ODFW, CDFW, and WDFW on June 26, 2014. The information considered during this consultation related to landed catch in the June commercial salmon fishery in the Oregon KMZ. During the consultation, the states reported that 132 Chinook salmon remained from the June quota. The Salmon Technical Team (STT) calculated that rolling over this unutilized quota to July, on an impact-neutral basis for impacts to Klamath River fall Chinook (KRFC) age-4 escapement and Klamath tribal fisheries, would convert 132 Chinook salmon from June to 74 Chinook salmon in July. The states recommended that the July quota in the Oregon KMZ, set preseason at 500 Chinook salmon be adjusted to 574 Chinook salmon. The purpose of this action was to allow access to available Chinook salmon quota while not exceeding impacts set preseason for KRFC and Klamath tribal fisheries. The RA concurred with the states' recommendation. Inseason action #14 took effect July 1, 2014, and remained in effect superseded by inseason action #18, which took effect on July 24, 2014. Inseason action to modify quotas and/or fishing seasons is authorized by 50 CFR 660.409(b)(1)(i).

Inseason Action #15

Inseason action #15 modified the commercial salmon fishery from the Humbug Mountain, Oregon to the Oregon/California border (Oregon KMZ) to open at 12:01 a.m., July 1, 2014, as scheduled, and close at 11:59 p.m., July 2, 2014, with a daily landing and possession limit of 15 Chinook per vessel.

The RA consulted with representatives of the Council, ODFW, CDFW, and WDFW on June 26, 2014. The information considered during this consultation related to catch-to-date, fishery effort, and catch projections in the commercial salmon fishery south of Cape Falcon. The states recommended that the July fishery, open for two days, July 1 and 2, 2014, with a daily landing and possession limit of 15 Chinook salmon per vessel. Additional openings could be scheduled under inseason actions, if sufficient quota remained. The purpose of this action was to allow access to available quota for July without exceeding it. The RA concurred with the states' recommendation. Inseason action #15 took effect on July 1, 2014, and remained in effect through July 31, 2014. Inseason action to modify quotas and/or fishing seasons is authorized by 50 CFR 660.409(b)(1)(i).

Inseason Action #16

Inseason action #16 adjusted the summer quota in the treaty Indian salmon fishery north of Cape Falcon to account for unutilized quota from May-June, which was rolled over to the summer fishery on an impact-neutral basis. The adjusted summer (July 1 through September 15) quota was set at 33,046 Chinook salmon.

On July 7, 2014, the treaty tribes reported to NMFS that they had 1,814 Chinook salmon unutilized quota from the May-June fishery to rollover to the summer fishery. The STT calculated that rolling over this unutilized quota to the summer fishery, on an impact-neutral basis for impacts to Skokomish and mid-Hood Canal Chinook salmon, would convert to 1,796 Chinook salmon to add to the summer quota. Inseason action #16 adopted the adjusted summer quota of 33,046 Chinook salmon. The purpose of this action was to allow access to available Chinook salmon quota while not exceeding impacts set preseason for Skokomish and mid-Hood Canal Chinook. Inseason action #16 took effect July 8, 2014, and remains in effect through the end of the 2014 season. Inseason action to modify quotas and/or fishing seasons is authorized by 50 CFR 660.409(b)(1)(i).

Inseason Action #17

Inseason action #17 modified the landing and possession limit for Chinook salmon in the summer commercial salmon fishery from U.S./Canada border to Cape Falcon, Oregon that opened July 1, 2014. The landing and possession limit was reduced from 60 Chinook salmon, set preseason, to 35 Chinook salmon per vessel per open period, effective July 11, 2014.

The RA consulted with representatives of the Council, WDFW, and ODFW on July 10, 2014. The information considered during this consultation related to catch-to-date and fishery effort in the commercial salmon fishery north of Cape Falcon; in the first of 11 scheduled openings, 27 percent of the summer quota for Chinook salmon was landed. During the consultation, the states recommended reducing the landing and possession limits for Chinook salmon in the commercial salmon fishery north of Cape Falcon to maintain the season as scheduled without exceeding the quota set preseason. The RA concurred with the state's recommendation. Effective July 11, 2014, inseason action #17 adjusted the north of Cape Falcon Chinook salmon landing and possession limit to 35 Chinook salmon per vessel per open period. Inseason action #17 remained in effect until superseded by inseason action #21 on August 1, 2014. Inseason action to modify quotas and/or fishing seasons is authorized by 50 CFR 660.409(b)(1)(i).

Inseason Action #18

Inseason action #18 adjusted the quotas for July and August in the commercial salmon fishery in the Oregon KMZ to account for unutilized quota from June and July, which was rolled over to July and August on an impact-neutral basis. The readjusted July quota was set at 596 Chinook salmon (superseding inseason action #14). The adjusted August quota was set at 580 Chinook salmon.

The RA consulted with representatives of the Council, ODFW, CDFW, and WDFW on July 24, 2014. The information considered during this consultation related to landed catch in the June and July commercial salmon fisheries in the Oregon KMZ. During the consultation, the State of Oregon updated the landings from June and reported that 171 Chinook salmon remained from the June quota, rather than 132 as previously reported (see inseason action #14, above). The STT calculated that rolling over this unutilized quota to July, on an impact-neutral basis for impacts to KRFC age-4 escapement and Klamath tribal fisheries, would convert 171 Chinook salmon from June to 96 Chinook salmon in July. The states recommended that the July quota in the Oregon KMZ, set preseason at 500 Chinook salmon and adjusted to 574 Chinook salmon under inseason action #14, be readjusted to 596 Chinook salmon. The State of Oregon reported that, of the 596 adjusted July quota, 496 Chinook were landed in the 2-day July opening, July 1 and 2, 2014 (see inseason action #15); therefore, quota of 100 Chinook salmon remained to be rolled over to August. The STT calculated the rollover, on an impact-neutral basis as described above, added 80 Chinook salmon to the August quota, set preseason at 500 Chinook salmon. The purpose of this action was to allow access to available Chinook salmon quota while not exceeding impacts set preseason for KRFC and Klamath tribal fisheries. The RA concurred with the states' recommendation. Inseason action #18 took effect July 24, 2014, and remains in effect until the end of the 2014 season, or until superseded by further inseason action. Inseason action to modify quotas and/or fishing seasons is authorized by 50 CFR 660.409(b)(1)(i).

Inseason Action #19

Inseason action #19 modified the commercial salmon fishery in the Oregon KMZ to open Wednesday and Thursday, August 6 and 7, 2014, with a daily landing and possession limit of 15 Chinook per vessel, and to open on subsequent Wednesdays and Thursdays in August, with a daily landing and possession limit of 15 Chinook per vessel.

The RA consulted with representatives of the Council, ODFW, CDFW, and WDFW on July 24, 2014. The information considered during this consultation related to available August quota, anticipated fishery effort, and catch projections in the commercial salmon fishery south of Cape Falcon. The states recommended that the August fishery open on Wednesdays and Thursdays with a daily landing and possession limit of 15 Chinook salmon per vessel, allowing the state to calculate remaining quota available prior to the next opening, and request an inseason consultation if further modifications to the August fishery were necessary. The purpose of this action was to allow access to available quota for August without exceeding it. The RA concurred with the states' recommendation. Inseason action #19 took effect on August 6, 2014, and remains in effect through August 29, 2014, unless superseded by inseason action. Inseason action to modify quotas and/or fishing seasons is authorized by 50 CFR 660.409(b)(1)(i).

Inseason Action #20

Inseason action #20 adjusted the incidental halibut allocation to 33,671 pounds, effective August 1, 2014, due to 4,000 pounds of additional allocation provided by the International Pacific Halibut Commission (IPHC). Inseason action #20 also modified the landing and possession limit to allow no more than one Pacific halibut per each four Chinook, except one Pacific halibut may be possessed or landed without meeting the ratio requirement, and no more than 3 halibut may be possessed or landed per trip, effective July 20, 2014 (this superseded the landing and possession limits set in inseason action #9 (79 FR 34269, June 16, 2014)).

The RA consulted with representatives of the Council, ODFW, CDFW, and WDFW on July 24, 2014. The information considered during this consultation related to IPHC allocations under the catch sharing, halibut catch-to-date, and effort in the commercial salmon fishery. Effective August 1, 2014, the IPHC rolled over 4,000 pounds of unutilized commercial halibut quota to the commercial salmon incidental halibut allocation, this resulted in an adjusted allocation of 33,671 pounds of Pacific halibut incidental to the commercial salmon fishery. The states recommended adjusting the incidental halibut landing and possession limit to allow access to this additional allocation. The RA concurred with the states' recommendation. The landing limits adjusted under inseason action #20 took effect on July 25, 2014, and remained in effect until superseded by inseason action #23 on August 8, 2014. Inseason action to modify quotas and/or fishing seasons is authorized by 50 CFR 660.409(b)(1)(i).

Inseason Action #21

Inseason action #21 modified the landing and possession limit for Chinook salmon in the commercial salmon fishery from U.S./Canada border to Cape Falcon, Oregon to 50 Chinook salmon and 50 marked coho per vessel per open period north of the Queets River, or 50 Chinook salmon and 80 marked coho per vessel south of the Queets River, effective August 1, 2014 (this action superseded inseason action #17).

The RA consulted with representatives of the Council, WDFW, and ODFW on July 31, 2014. The information considered during this consultation related to catch-to-date and fishery effort in the commercial salmon fishery north of Cape Falcon. Adverse weather conditions and shift of fishing effort from salmon to tuna resulted in lower than anticipated landings. During the consultation, the states recommended increasing the landing and possession limits for Chinook and coho salmon in the commercial salmon fishery north of Cape Falcon to provide access to available quota. The RA concurred with the states' recommendation. Inseason action #21 took effect August 1, 2014, and remained in effect until superseded by inseason action #22 on August 8, 2014. Inseason action to modify quotas and/or fishing seasons is authorized by 50 CFR 660.409(b)(1)(i).

Inseason Action #22

Inseason action #22 modified the landing and possession limit for Chinook salmon in the commercial salmon fishery from U.S./Canada border to Cape Falcon, Oregon to 75 Chinook salmon and 150 marked coho per vessel per open period, effective August 8, 2014. This action superseded inseason action #21 and also preempted a scheduled change in the landing limits set in the preseason regulations to take effect on August 22.

The RA consulted with representatives of the Council, WDFW, and ODFW on August 7, 2014. The information considered during this consultation related to catch-to-date and fishery effort in the commercial salmon fishery north of Cape Falcon. Adverse weather conditions continued to negatively affect the fishery and not all vessels participating in the fishery have been able to catch their landing limits. During the consultation, the states recommended increasing the landing and possession limits for Chinook and coho salmon in the commercial salmon fishery north of Cape Falcon to provide access to available quota while salmon are still available to the ocean fishery. The RA concurred with the state's recommendation. Inseason action #22 remains in effect until modified by inseason action, and preempted a scheduled change in landing limit set preseason to take effect on August 22, 2014. Inseason action to modify quotas and/or fishing seasons is authorized by 50 CFR 660.409(b)(1)(i).

Inseason Action #23

Inseason action #23 modified the landing and possession limit for Pacific halibut caught incidental to the commercial salmon fishery by IPHC license holders to allow no more than one Pacific halibut per each four Chinook, except one Pacific halibut may be possessed or landed without meeting the ratio requirement, and no more than 7 halibut may be possessed or landed per trip (this superseded the landing and possession limits set in inseason action #20).

The RA consulted with representatives of the Council, ODFW, CDFW, and WDFW on August 7, 2014. The information considered during this consultation related to IPHC allocations under the catch sharing plan, halibut catch-to-date, and effort in the commercial salmon fishery. The states recommended increasing the incidental halibut landing and possession limit to allow access to the allocation that was adjusted on August 1, 2014 (see inseason action #20). The RA concurred with the states' recommendation. Inseason action #23 took effect on August 8, 2014, and remains in effect until the allocation is attained or until superseded by inseason action. Inseason action to modify quotas and/or fishing seasons is authorized by 50 CFR 660.409(b)(1)(i).

All other restrictions and regulations remain in effect as announced for the 2014 ocean salmon fisheries and 2015 fisheries opening prior to May 1, 2015 (79 FR 24580, May 1, 2014).

The RA determined that the best available information indicated that Chinook salmon and Pacific halibut landings and fishing effort supported the above inseason actions recommended by the treaty tribes (inseason action #16), and the states of Washington, Oregon, and California. The states manage the fisheries in state waters adjacent to the areas of the U.S. exclusive economic zone in accordance with these Federal actions. As provided by the inseason notice procedures of 50 CFR 660.411, actual notice of the described regulatory actions was given, prior to the time the action was effective, by telephone hotline number 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (79 FR 24580, May 1, 2014), the West Coast Salmon Fishery Management Plan (Salmon FMP), and regulations implementing the Salmon FMP, 50 CFR 660.409 and 660.411. Prior notice and opportunity for public comment was impracticable because NMFS and the state agencies had insufficient time to provide for prior notice and the opportunity for public comment between the time catch and effort projections were developed and fisheries impacts were calculated, and the time the fishery modifications had to be implemented in order to ensure that fisheries are managed based on the best available scientific information, thus allowing fishers access to the available fish at the time the fish were available while ensuring that quotas are not exceeded. The AA also finds good cause to waive the 30-day delay in effectiveness required under 5 U.S.C. 553(d)(3), as a delay in effectiveness of these actions would allow fishing at levels inconsistent with the goals of the Salmon FMP and the current management measures.

These actions are authorized by 50 CFR 660.409 and 660.411 and are exempt from review under Executive Order 12866.

Authority: 16 U.S.C. 1801 et seq.

Dated: October 22, 2014.
Emily H. Menashes,
Acting Director, Office of Sustainable Fisheries, National Marine Fisheries Service.

[FR Doc. 2014-25629 Filed 10-27-14; 8:45 am]

BILLING CODE 3510-22-P